DEPARTMENT OF TRANSPORTATION

Federal Aviation Administration

14 CFR Part 39

[Docket No. FAA-2022-1584; Project Identifier MCAI-2022-01522-R; Amendment 39-22281; AD 2022-26-03]

RIN 2120-AA64

Airworthiness Directives; Leonardo S.p.a. Helicopters

AGENCY: Federal Aviation Administration (FAA), DOT.

ACTION: Final rule; request for comments.

SUMMARY: The FAA is adopting a new airworthiness directive (AD) for all Leonardo S.p.a. Model AW169 helicopters. This AD was prompted by a report of a protruding pushbutton screw (screw) on a cockpit door internal handle resulting in an interference with the collective stick travel. This AD requires inspecting each screw and depending on the results, modifying the cockpit door handle and reporting information, as specified in a European Union Aviation Safety Agency (EASA) AD, which is incorporated by reference. This AD also prohibits installing an affected door handle assembly unless certain actions are accomplished. The FAA is issuing this AD to address the unsafe condition on these products.

DATES: This AD becomes effective December 30, 2022.

The Director of the Federal Register approved the incorporation by reference of a certain publication listed in this AD as of December 30, 2022.

The FAA must receive comments on this AD by January 30, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1584; or in person at Docket Operations between 9 a.m. and 5 p.m., Monday through Friday, except Federal holidays. The AD docket contains this final rule, any comments received, and other information. The address for Docket Operations is listed above.

Material Incorporated by Reference:

• For EASA material that is incorporated by reference (IBR) in this final rule, contact EASA, Konrad-Adenauer-Ufer 3, 50668 Cologne, Germany; telephone +49 221 8999 000; email ADs@easa.europa.eu; internet easa.europa.eu. You may find the IBR material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2022-1584.

Other Related Service Information: For Leonardo Helicopters service information identified in this final rule, contact Leonardo S.p.A. Helicopters, Emanuele Bufano, Head of Airworthiness, Viale G. Agusta 520, 21017 C. Costa di Samarate (Va) Italy; telephone (+39) 0331-225074; fax (+39) 0331-229046; or at customerportal.leonardocompany.com/en-US/. This service information is also available at the FAA contact information under Material Incorporated by Reference above.

FOR FURTHER INFORMATION CONTACT: Michael Hughlett, Aerospace Engineer, General Aviation & Rotorcraft Section, International Validation Branch, Compliance & Airworthiness Division, FAA, 10101 Hillwood Pkwy., Fort Worth, TX 76177; telephone (817) 222-5110; email michael.hughlett@faa.gov.

SUPPLEMENTARY INFORMATION:

Background

EASA, which is the Technical Agent for the Member States of the European Union, has issued EASA Emergency AD 2022-0233-E, dated November 30, 2022 (EASA AD 2022-0233-E), to correct an unsafe condition for Leonardo S.p.A. Helicopters, formerly Finmeccanica S.p.A., AgustaWestland S.p.A., Model AW169 helicopters, all serial numbers.

This AD was prompted by a report of a protruding screw on the left-hand (LH) cockpit door internal handle resulting in an interference with the collective stick travel. The FAA is issuing this AD to address a discrepancy with the screw. The unsafe condition, if not addressed, could result in reduced collective stick authority and subsequent reduced control of the helicopter. See EASA AD 2022-0233-E for additional background information.

Related Service Information Under 1 CFR Part 51

EASA AD 2022-0233-E requires a one-time inspection of the LH and right-hand (RH) pilot and co-pilot door handle assemblies having part number (P/N) 4F5211A02331 for marking of green paint on the screw. If no green paint is found during the inspection, EASA AD 2022-0233-E requires inspecting the condition and torque of the screw and modifying the cockpit door handle. Depending on the results of the inspection, EASA AD 2022-0233-E also requires reporting any discrepancy or loose screw to Leonardo Helicopters. Additionally, EASA AD 2022-0233-E prohibits installing a pilot and co-pilot door handle assembly P/N 4F5211A02331 unless certain requirements are met.

This material is reasonably available because the interested parties have access to it through their normal course of business or by the means identified in the ADDRESSES section.

Other Related Service Information

The FAA also reviewed Leonardo Helicopters Emergency Alert Service Bulletin No. 169-228, dated November 29, 2022. This service information specifies procedures for inspecting the screw head installed on the LH and RH door handle assemblies for green paint. If there is no green paint, this service information specifies procedures for inspecting the condition of the screw and inspecting the screw for proper tightening. If there are any anomalies or a loose screw, this service information specifies reporting the finding to Product Support Engineering. This service information also specifies procedures to modify the door handle assembly by applying a sealing compound, applying torque, and painting the screw head green.

FAA's Determination

These helicopters have been approved by the aviation authority of Italy and are approved for operation in the United States. Pursuant to the FAA's bilateral agreement with Italy, EASA, its technical representative, has notified the FAA of the unsafe condition described in its emergency AD. The FAA is issuing this AD after evaluating all pertinent information and determining that the unsafe condition exists and is likely to exist or develop on other helicopters of the same type design.

Requirements of This AD

This AD requires accomplishing the actions specified in EASA AD 2022-0233-E, described previously, as IBRed, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0233-E is IBRed in this FAA final rule. This AD, therefore, requires compliance with EASA AD 2022-0233-E in its entirety through that incorporation, except for any differences identified as exceptions in the regulatory text of this AD. Using common terms that are the same as the heading of a particular section in EASA AD 2022-0233-E does not mean that operators need comply only with that section. For example, where the AD requirement refers to “all required actions and compliance times,” compliance with this AD requirement is not limited to the section titled “Required Action(s) and Compliance Time(s)” in EASA AD 2022-0233-E. Service information referenced in EASA AD 2022-0233-E for compliance will be available at regulations.gov under Docket No. FAA-2022-1584 after this final rule is published.

Differences Between This AD and the EASA AD

The service information referenced in EASA AD 2022-0233-E specifies checking the screw for condition and proper tightening, and if there are any anomalies or loose screws, reporting the finding to Product Support Engineering. This AD requires inspecting the screw for a discrepancy, which may be indicated by a protruding screw head, improper torque, or a loose screw. If there is any discrepancy, this AD requires replacing the screw with an airworthy screw.

EASA AD 2022-0233-E specifies reporting inspection results within 7 days after completing an inspection that detects any discrepancy or loose screw, whereas this AD requires reporting those inspection results within 10 days after completing the inspection, if the inspection was done on or after the effective date of this AD; or reporting those inspection results within 10 days after the effective date of this AD, if the inspection was done before the effective date of this AD. Additionally, for the purposes of this AD, a discrepancy may be indicated by a protruding screw head, improper torque, or loose screw.

Interim Action

The FAA considers this AD interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because when an affected component fails, the proximity of the affected component could create interference with part of an assembly that is critical to the control of a helicopter. This unsafe condition may currently exist in other helicopters and consequences of this unsafe condition could occur during any phase of flight without any previous indications. In addition, the compliance time for the initial inspection is within 13 hours time-in-service or 30 days, whichever occurs first after the effective date of this AD, which is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-1584; Project Identifier MCAI-2022-01522-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Michael Hughlett, Aerospace Engineer, General Aviation & Rotorcraft Section, International Validation Branch, Compliance & Airworthiness Division, FAA, 10101 Hillwood Pkwy., Fort Worth, TX 76177; telephone (817) 222-5110; email michael.hughlett@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 11 helicopters of U.S. Registry. Labor rates are estimated at $85 per work-hour. Based on these numbers, the FAA estimates the following costs to comply with this AD.

Visually inspecting each screw head for green paint takes a minimal amount of time for a nominal cost.

If required, inspecting a non-painted screw and modifying the door handle assembly takes about 0.5 work-hour for an estimated cost of $43 per door handle assembly.

If required, replacing a screw with an airworthy screw takes a minimal amount of time and has a nominal parts cost.

If required, reporting information takes about 1 work-hour for an estimated cost of $85.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for this Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-26-03 Leonardo S.p.a.: Amendment 39-22281; Docket No. FAA-2022-1584; Project Identifier MCAI-2022-01522-R.

(a) Effective Date

This airworthiness directive (AD) is effective December 30, 2022.

(b) Affected ADs

None.

(c) Applicability

This AD applies to all Leonardo S.p.a. Model AW169 helicopters, certificated in any category.

(d) Subject

Joint Aircraft System Component (JASC) Code: 5200, Doors.

(e) Unsafe Condition

This AD was prompted by a report of a protruding pushbutton screw (screw) on the left-hand cockpit door internal handle resulting in an interference with the collective stick travel. The FAA is issuing this AD to address a discrepancy with the screw. The unsafe condition, if not addressed, could result in reduced collective stick authority and subsequent reduced control of the helicopter.

(f) Compliance

Comply with this AD within the compliance times specified, unless already done.

(g) Requirements

Except as specified in paragraph (h) of this AD: Comply with all required actions and compliance times specified in, and in accordance with, European Union Aviation Safety Agency Emergency AD 2022-0233-E, dated November 30, 2022 (EASA AD 2022-0233-E).

(h) Exceptions to EASA AD 2022-0233-E

(1) Where EASA AD 2022-0233-E requires compliance in terms of flight hours, this AD requires using hours time-in-service.

(2) Where EASA AD 2022-0233-E refers to its effective date, this AD requires using the effective date of this AD.

(3) Where the service information referenced in EASA AD 2022-0233-E specifies “check for condition and proper tightening of the cockpit door handle screw. In case of any anomalies or screw loose, report the finding to Product Support Engineering;” for this AD, replace that text with “inspect the screw for a discrepancy, which may be indicated by a protruding screw head, improper torque, or loose screw. If there is any discrepancy, before further flight, replace the screw with an airworthy screw.” Inspection results are still required to be reported in accordance with paragraph (3) of EASA AD 2022-0233-E.

(4) Where paragraph (3) of EASA AD 2022-0233-E specifies reporting inspection results to Leonardo S.p.a. within 7 days after completing an inspection that detects any discrepancy or loose screw, this AD requires reporting those inspection results at the applicable compliance time in paragraph (h)(4)(i) or (ii) of this AD. Additionally, for the purposes of this AD, a discrepancy may be indicated by a protruding screw head, improper torque, or loose screw.

(i) If the inspection was done on or after the effective date of this AD: Submit the report within 10 days after completing the inspection.

(ii) If the inspection was done before the effective date of this AD: Submit the report within 10 days after the effective date of this AD.

(5) This AD does not adopt the Remarks paragraph of EASA AD 2022-0233-E.

(i) Special Flight Permit

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Michael Hughlett, Aerospace Engineer, General Aviation & Rotorcraft Section, International Validation Branch, Compliance & Airworthiness Division, FAA, 10101 Hillwood Pkwy., Fort Worth, TX 76177; telephone (817) 222-5110; email michael.hughlett@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2022-0233-E, dated November 30, 2022.

(ii) [Reserved]

(3) For EASA Emergency AD 2022-0233-E, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email fr.inspection@nara.gov, or go to: www.archives.gov/federal-register/cfr/ibr-locations.html.

Issued on December 7, 2022.
Christina Underwood,
Acting Director, Compliance & Airworthiness Division, Aircraft Certification Service.

[FR Doc. 2022-27296 Filed 12-13-22; 4:15 pm]

BILLING CODE 4910-13-P